DEPARTMENT OF ENERGY

Federal Energy Regulatory Commission

[Docket No. CP98-540-003]

Transcontinental Gas Pipe Line Corporation; Notice of Amendment

September 25, 2000.

Take notice that on September 20, 2000, Transcontinental Gas Pipe Line Corporation (Transco), P.O. Box 1396, Houston, Texas 77251, filed in Docket No. CP98-540-003 a request to amend, pursuant to section 7(c) of the Natural Gas Act, a certificate of public convenience and necessity issued in the referenced proceeding on April 26, 2000.¹ In the amendment, Transco requests authorization to (a) phase the construction of the MarketLink project to satisfy phased in-service dates requested by the project shippers, and (b) redesign the recourse rate based on phased construction of the project, all as more fully set forth in the application which is on file with the Commission and open to public inspection. This filing may be viewed on the web at http://www.ferc.fed.us/online/rims.htm (call 202-208-2222 for assistance).

¹ 91 FERC ¶ 61,102 (2000).

Transco states that the name, address, and telephone number of the person to whom correspondence and communication concerning this application should be addressed is:

Virginia C. Levenback, Senior Counsel, Transcontinental Gas Pipe Line Corporation, Post Office Box 1396 (77056-6106), Houston, Texas 77251-1396, (713) 215-2810.

Transco states that it is not proposing in its amendment to change the overall facilities certificated by the Commission in this proceeding, only to phase that construction. Transco proposes to construct and operate the following certificated facilities in Phase 1 of its MarketLink project:

(1) 12.46 miles of 36-inch diameter pipeline loop between milepost (MP) 161.29 in Lycoming County, Pennsylvania and MP 173.75 in Clinton County, Pennsylvania (Haneyville Loop);

(2) 4.17 miles of 42-inch diameter pipeline between MP 25.20 and MP 29.37 in Warren County, New Jersey (Clinton Loop);

(3) 5.46 miles of 42-inch diameter pipeline loop between MP 1802.73 in Middlesex County, New Jersey and MP 1808.19 in Union County, New Jersey (Woodbridge Loop);

(4) The installation of one new 15,000 horsepower (hp), turbine-driven compressor unit and impeller replacements on three existing turbine-driven compressor units at Transco's existing Compressor Station 517, located at MP 115.18 in Columbia County, Pennsylvania;

(5) The installation of one 15,000 horsepower (hp), electric motor-driven compressor unit and impeller replacements on two existing 7,000 hp electric motor-driven compressor units at Transco's existing Compressor Station 205, located at MP 1773.30 in Mercer County, New Jersey;

(6) Modification of inlet/outlet headers at existing Compressor Station 200 at MP 1722.24 in Chester County, Pennsylvania to provide flow control under certain operating conditions on Transco's Trenton-Woodbury Line; and

(7) Modifications to reduce pressure in Transco's 42-inch Mainline E from 800 psig to 638 psig at Transco's existing Linden Regulator Station, located at MP 1808.19 in Union County, New Jersey.

Transco states that the construction of the Phase I facilities will create an additional 166,000 dts/d of firm transportation capacity by a proposed in-service date of November 1, 2001.

Transco states that it has executed firm service agreements under Rate Schedule FT for Phase I MarketLink service commencing on November 1, 2001 with the following shippers: Aquila Energy Marketing Corporation (25,000 dts/d); Consolidated Edison Energy, as Agent for Consolidated Edison of New York, Inc. (30,000 dts/d); ConEdison Energy (10,000 dts/d); St. Lawrence Cement Co., L.L.C. (1,000 dts/d); and Williams Energy Marketing & Trading Company (100,000 dts/d).

Transco also states that it proposes to construct and operate the following certificated facilities in Phase II of the MarketLink project:

(1) 4.90 miles of 36-inch diameter pipeline loop between MP 173.75 and MP 178.65 in Clinton County, Pennsylvania (Haneyville Loop);

(2) 4.44 miles of 42-inch diameter loop between MP 138.30 and MP 142.74 in Lycoming County, Pennsylvania; and 1.79 miles of 36-inch diameter pipeline loop between MP 142.74 and MP 144.53 in Lycoming County, Pennsylvania (Williamsport Loop);

(3) 7.0 miles of 42-inch diameter between MP 39.28 and milepost 115.18 in Columbia County, Pennsylvania (Benton Loop);

(4) 6.98 miles of 42-inch diameter loop between MP 18.22 in Hunterton County, New Jersey and MP 25.20 in Warren County, New Jersey (Clinton Loop);

(5) 7.1 miles of 36-inch diameter loop between MP 18.96 and MP 26.06 in Burlington County, New Jersey (Bordentown Loop); and

(6) The replacement of an existing 6.3 miles of 12-inch diameter pipeline loop between MP 30.53 and MP 36.83 in Burlington County, New Jersey, with a 36-inch diameter pipeline loop. The 12-inch pipeline segment will be removed and the 36-inch replacement pipeline will be installed in the same trench (Mt. Laurel Replacement).

Transco states that the construction of Phase 2 facilities will create an additional 130,000 dts/d of firm transportation capacity by a proposed in-service date of November 1,2002.

Transco also states that it has firm service agreements under Rate Schedule FT for Phase 2 MarketLink service with the following shippers: PPL EnergyPlus, LLC (30,000dts/d); and Virginia Power Energy Marketing (100,000 dts/d).

Transco states that it will file subsequent amendments to construct additional phases of the project as shippers finalize their own arrangements and as their precedent agreements are converted to firm service agreements. Transco states that such filing will match the certificated facilities to be constructed to serve that phase of the market and will establish a revised recourse rate. Transco anticipates that all MarketLink facilities certificated by the Commission in its April 26, 2000 order will be constructed and placed in service by November 1, 2004.

Transco states that the estimated costs of the proposed Phase I facilities is $123.3 million and that the estimated costs of the proposed Phase II facilities is $119.6 million. Transco states that the initial recourse rate for Phase I MarketLink service is a separately stated incremental monthly reservation rate of $11.9394 per dt. According to Transco, the initial recourse rate will be revised to $12.7346 per dt after the Phase II facilities are constructed and placed in service. Such revised recourse rate will then apply to Phase I and II MarketLink service until subsequent phases of the MarketLink project are placed in service. Transco states that the proposed recourse rates are based upon a straight-fixed variable rate design.

Transco further states that the MarketLink shippers will also be charged fuel retention, electric power, and other applicable surcharges applicable under Transco's Rate Schedule FT, as approved by the Commission from time to time. The electric power unit rate and fuel retention will be the generally applicable levels under Rate Schedule FT for Transco's Rate Zone 6.

Any person desiring to be heard or to make any protest with reference to said Application should on or before October 16, 2000, file with the Federal Energy Regulatory Commission, 888 First Street, NW., Washington, DC 20426, a motion to intervene or a protest in accordance with the requirements of the Commission's Rules of Practice and Procedure (18 CFR 385.211 or 18 CFR 385.214) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

A person obtaining intervenor status will be placed on the service list maintained by the Commission and will receive copies of all documents issued by the Commission, filed by the applicant, or filed by all other intervenors. An intervenor can file for rehearing of any Commission order and can petition for court review of any such order. However, and intervenor must submit copies of comments or any other filing it makes with the Commission to every other intervenor in the proceeding, as well as 14 copies with the Commission.

A person does not have to intervene, however, in order to have comments considered. A person, instead, may submit two copies of comments to Secretary of the Commission. Commenters will be placed on the Commission's environmental mailing listing, will receive copies of environmental documents and will be able to participate in meetings associated with the Commission's environmental review process. Commenters will not be required to serve copies of filed documents on all parties. However, commenters will not receive copies of all documents filed by other parties or issued by the Commission and will not have the right to seek rehearing or appeal the Commission's final order to a federal court.

The Commission will consider all comments and concerns equally, whether filed by commenters or those requesting intervener status.

Take further notice that pursuant to the authority contained in and subject to the Jurisdiction conferred upon the Commission by sections 7 and 15 of the Natural Gas Act and the Commission's Rules of Practice and Procedure, a hearing will be held without further notice before the Commission or its designee on this Application if no petition to intervene is filed within the time required herein, if the Commission on its own review of the matter finds that a grant of the abandonment is required by the public convenience and necessity. If a petition for leave to intervene is timely filed, or if the Commission, on its own motion believes that a formal hearing is required, further notice of such hearing will be duly given.

Under the procedure herein provided for, unless otherwise advised, it will be unnecessary for Transco to appear or be represented at the hearing.

David P. Boergers,
Secretary.

[FR Doc. 00-24996 Filed 9-28-00; 8:45 am]

BILLING CODE 6717-01-M